FEDERAL COMMUNICATIONS COMMISSION

47 CFR Part 64

[WC Docket No. 12-375; FCC 20-111; FRS 17218]

Rates for Interstate Inmate Calling Services; Correction

AGENCY: Federal Communications Commission

ACTION: Final rule; correction.

SUMMARY: The Federal Communications Commission published a document in the Federal Register on October 23, 2020, adopting rules concerning ancillary services charges associated with interstate inmate calling services. The document contained typos.

DATES: Effective November 23, 2020.

FOR FURTHER INFORMATION CONTACT: Irina Asoskov, 202-418-2196.

SUPPLEMENTARY INFORMATION:

Correction

In the Federal Register of October 23, 2020, starting on page 67450, in FR Doc. 2020-19951, make the following corrections:

1. On page 67450, in the second column, correct the second sentence of the Summary section to read:

SUMMARY: * * * In response to a directive from the United States Court of Appeals for the District of Columbia Circuit, the Commission determined that, except in limited circumstances, it is impractical to separate out the intrastate and interstate components of ancillary service charges imposed in connection with inmate calling services. * * *

2. On page 67450, in the third column, correct the first sentence of the Supplementary Information section to read:

SUPPLEMENTARY INFORMATION: This is a final rule summary of the Commission's Report and Order, released August 7, 2020. * * *

Dated: October 30, 2020.
Marlene Dortch,
Secretary, Federal Communications Commission.

[FR Doc. 2020-24905 Filed 11-16-20; 8:45 am]

BILLING CODE 6712-01-P